DEPARTMENT OF COMMERCE

National Oceanic and Atmospheric Administration

RIN 0648-XC614

Marine Mammals; File No. 17996

AGENCY: National Marine Fisheries Service (NMFS), National Oceanic and Atmospheric Administration (NOAA), Commerce.

ACTION: Notice; issuance of permit.

SUMMARY: Notice is hereby given that a permit has been issued to Silverback Films Ltd, 59 Cotham Hill, Cotham, Bristol, BS6 6JR, United Kingdom, to conduct commercial or educational photography of bottlenose dolphins (Tursiops truncatus).

ADDRESSES: The permit and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

FOR FURTHER INFORMATION CONTACT: Rosa L. González or Kristy Beard, (301) 427-8401.

SUPPLEMENTARY INFORMATION: On April 12, 2013, notice was published in the Federal Register (78 FR 21915) that a request for a permit to conduct commercial/educational photography had been submitted by the above-named applicant. The requested permit has been issued under the authority of the Marine Mammal Protection Act of 1972, as amended (16 U.S.C. 1361 et seq.) and the regulations governing the taking and importing of marine mammals (50 CFR part 216).

Permit No. 17996 authorizes a commercial photography/filming project to film bottlenose dolphin strand-feeding events in the estuaries and creeks of Bull Creek and around Hilton Head, South Carolina. Filming would be conducted from a small boat and from a helicopter. A maximum of 500 dolphins, annually, would be approached. Filming would occur over one (or two if needed) sessions of three to four weeks each and be completed by October 2014. Footage would be used in a seven-part television series, The Hunt, an educational series on predation strategy and predator-prey dynamics for the British Broadcasting Company. The permit expires on October 31, 2014.

In compliance with the National Environmental Policy Act of 1969 (42 U.S.C. 4321 et seq.), a final determination has been made that the activity proposed is categorically excluded from the requirement to prepare an environmental assessment or environmental impact statement.

Dated: August 9, 2013.
P. Michael Payne,
Chief, Permits and Conservation Division, Office of Protected Resources, National Marine Fisheries Service.

[FR Doc. 2013-19702 Filed 8-13-13; 8:45 am]

BILLING CODE 3510-22-P